DEPARTMENT OF STATE

[Public Notice 8242]

Shipping Coordinating Committee; Notice of Committee Meeting

The Shipping Coordinating Committee (SHC) will conduct an open meeting at 9:30 a.m. on Tuesday, April 23, 2013, in Room 6103 of the United States Coast Guard Headquarters Building, 2100 Second Street SW., Washington, DC 20593-0001. The primary purpose of the meeting is to prepare for the forty-fourth Session of the International Maritime Organization's (IMO) Sub-Committee on Standards of Training and Watchkeeping (STW) to be held at the IMO Headquarters, United Kingdom, April 29-May 3, 2013.

The agenda items to be considered include:

—Adoption of the agenda; report on credentials

—Decisions of other IMO bodies

—Validation of model training courses

—Unlawful practices associated with certificates of competency

—Casualty analysis

—Development of an e-navigation strategy implementation plan

—Development of guidance for the implementation of the 2010 Manila amendments

—Promotion of the implementation of the International Convention on Standards of Training, Certification and Watchkeeping for Fishing Vessel Personnel (STCW-F), 1995

—Development of Guidelines for wing-in-ground (WIG) craft

—Role of the human element

—Guidelines on how to present relevant information to seafarers

—Enhancing the efficiency and user-friendliness of International Safety Management Code (ISM)

—Development of Guidance for personnel involved with tug-barge operations

—Revision of the Recommendations on training of personnel on mobile offshore units (MOUs)

—Development of a mandatory Code for ships operating in polar waters

—Review and modernization of the Global Maritime DIstress and Safety System (GMDSS)

—Review of general cargo ship safety

—Proposed amendment to the STCW Code's colour vision requirements

—Biennial agenda and provisional agenda for STW 45

—Any other business

—Report to the Maritime Safety Committee

Members of the public may attend this meeting up to the seating capacity of the room. To facilitate the building security process, and to request reasonable accommodation, those who plan to attend should contact the meeting coordinator, Mr. Breyer Davis, by email at breyer.j.davis@uscg.mil, by phone at (202) 372-1445, by fax at (202) 372-1925, or in writing at Commandant (CG-5PS), U.S. Coast Guard, 2100 2nd Street SW., Stop 7126, Washington, DC 20593-7126 not later than April 16, 2013, which is one week prior to the meeting. Requests made after April 16, 2013 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: March 12, 2013.
Brian Robinson,
Executive Secretary, Shipping Coordinating Committee, Department of State.

[FR Doc. 2013-06529 Filed 3-20-13; 8:45 am]

BILLING CODE 4710-09-P